DEPARTMENT OF AGRICULTURE

Rural Business-Cooperative Service

[Docket No. RBS-20-BUSINESS-0037]

Inviting Applications for the Rural Energy for America Program; Correction

AGENCY: Rural Business-Cooperative Service, USDA (Rural Development).

ACTION: Notice of solicitation of applications; correction.

SUMMARY: The Rural-Business Cooperative Service (the Agency) published a notice of solicitation of applications in the Federal Register of November 25, 2020 entitled “Inviting Applications for the Rural Energy for America,” to allow potential applicants time to submit applications for financial assistance under the Rural Energy for America Program (REAP) and allow the Agency time to process applications within the current FY 2021. The document contained an incorrect threshold for awarding points under the “size of request” scoring criteria as well as an incorrect number of points available for previous grantees and borrowers who have not received and accepted a grant award or guaranteed loan commitment within the 2 previous federal years.

FOR FURTHER INFORMATION CONTACT: Please contact the applicable USDA Rural Development Energy Coordinator in your respective state, as identified via the following link: https://www.rd.usda.gov/files/RBS_StateEnergyCoordinators.pdf.

For information about this Notice, please contact Deb Yocum, Business Loan and Grant Analyst, USDA Rural Development, Program Management Division. Telephone: (402) 499-1198. Email: debra.yocum@usda.gov.

SUPPLEMENTARY INFORMATION:

Corrections

(1) In the Federal Register of November 25, 2020 in FR Doc. 2020-26086, on page 75292, in the first column, under (d) Scoring Criteria Previous grantees and borrowers, correct (ii) to read: If the applicant has not received and accepted a grant award or guaranteed loan commitment under this subpart, or a guaranteed loan commitment under 7 CFR part 5001 of this title within the 2 previous Federal fiscal years, 5 points will be awarded.

(2) In the Federal Register of November 25, 2020 in FR Doc. 2020-26086, on page 75292, in the third column, under (g) Scoring Criteria Size of request, correct (g) to read: For grant applications requesting $250,000 or less for RES, or $125,000 or less for EEI, an additional 10 points may be awarded such that a maximum score of 100 points is possible. All other applications will have a maximum possible score of 90 points.

Mark Brodziski,
Acting Administrator, Rural Business-Cooperative Service.

[FR Doc. 2021-00134 Filed 1-14-21; 8:45 am]

BILLING CODE 3410-XY-P